DEPARTMENT OF THE INTERIOR

Bureau of Land Management

[AZA—31116 (supercedes AZA 28350)]

Notice of Availability for the Ray Land Exchange/Plan Amendment Record of Decision

AGENCY: Bureau of Land Management, Interior.

ACTION: Ray Plan Amendment Record of Decision and Notice of Decision for the Ray Land Exchange.

SUMMARY: The Bureau of Land Management (BLM) is amending the Phoenix and Safford District Resource Management Plans (RMPs) to allow the transfer of certain federal lands and mineral estate in Pinal and Gila counties (Arizona) for privately owned lands in Mohave and Pinal counties. BLM examined the lands and interests described below under the Federal Land Policy and Management Act of 1976, as amended (43 U.S.C. 1716) (FLPMA) and through the planning process described in BLM regulations (43 CFR 1600). BLM determined the lands and interests therein as suitable for disposal by land exchange pursuant to Section 206 of FLPMA, as amended. The Record of Decision approving the plan amendment is now available.

Notice is hereby given that on April 27, 2000, Jesse Juen, Tucson Field Office Manager, Bureau of Land Management, issued a decision to approve a proposed land exchange with ASARCO, Incorporated, a New York Corporation. This Notice of Decision initiates a 45-day comment period on the decision to approve the land exchange.

Federal lands and mineral estate determined suitable for land exchange (total approximately 10, 976 acres) are described as:

Mineral Estate Only

Gila and Salt River Base and Meridian, Pinal County, Arizona

T.2 S., R.13 E., Section 35 (80 acres)

T.2 S., R.14 E., Section 31 (71 acres)

T.3 S., R.12 E., Section 24 (160 acres)

T.3 S., R.13 E., Sections 9, 10, 11, 12, 30 (1337 acres)

T.3 S., R.14 E., Sections 6, 7, 17, 18 (495 acres)

T.6 S., R.4 E., Sections 12, 23, 24 ( 637acres)

Comprising approximately 2,780 acres.

Full Fee Estate

Gila and Salt River Base and Meridian, Pinal and Gila Counties, Arizona

T.2 S., R.13 E., Section 34 (428 acres)

T.3 S., R.12 E., Sections 25, 26 (1,120 acres)

T.3 S., R.13 E., Sections 1, 2, 8, 10, 11, 13, 17, 19,20, 22, 23, 26, 27, 34, 35 (3,121 acres)

T.3 S., R.14 E., Sections 7, 18, 19, 20, 33, 34 (1,253 acres)

T.4 S., R.14 E., Sections 3, 4, 5, 8 (1,442 acres)

T.4 S., R.15 E., Sections 22, 27 (272 acres)

T.5 S., R.15 E., Sections 11, 28 (560 acres)

Comprising approximately 8,196 acres.

Non-federal lands (private land now owned by Asarco Incorporated) to be acquired (total approximately 7,300 acres) described as:

Gila and Salt River Base and Meridian, Mohave County, Arizona

Knisely Ranch, T.25 N., R.18 W., Sections 4, 17, 20 (160 acres)

McCracken Mtn.

T.14 N., R.14 W., Sections 19, 31 (1,266 acres)

T.14 N., R.15 W., Sections 3, 9, 11, 15, 23, 25, 27, 35 (5,118 acres)

Sacramento Valley, T.19 N., R.19 W., Section 23 (120 acres)

Tomlin Parcels, T.15 N., R.13 W., Sections 19, 35 (313 acres)

Comprising approximately 6,980 acres.

Gila and Salt River Base and Meridian, Pinal County, Arizona

Gila River/Cochran, T.4 S., R.12 E., Sections 6, 7 (320 acres)

Comprising approximately 320 acres.

The purpose of the Ray Land Exchange is to acquire the non-federal land parcels which have high public values for: wilderness inholdings in the Mt. Tipton Wilderness and parcels adjacent to the Warm Springs Wilderness; checkerboard inholdings in the McCracken Mountains Area of Critical Environmental Concern; riparian zones along the Big Sandy and Gila Rivers; other habitat supporting threatened and endangered or special species; and cultural and recreation values. The public interest will be served by making the exchange.

The values of the lands to be exchanged are equal. Lands transferred from the United States to ASARCO will be subject to the following reservations, terms and conditions:

A right-of-way thereon for ditches or canals.

Three rights-of-way for the Arizona Highway Department, AZAR 04524, AZAR 04525, AZAR 024241.

Two rights-of-way for the Salt River Project, AZA 2146, AZPHX 086749.

A right-of-way for Southwest Gas Corporation, AZAR 02148.

Two rights-of-way for Arizona Public Service Company, AZA 8778, AZAR 033336.

Two rights-of-way for US West Communications Inc., AZA 6541, AZA 24678.

And a right-of-way for Pinal County Board of Supervisors, AZA 21389.

DATES: The publication of this Notice of Decision initiates a 45-day protest period on the Ray land exchange. Interested parties may submit comments or objections regarding the land exchange to the Tucson Field Office Manager, BLM, 12661 East Broadway, Tucson, AZ 85748-7208. Objections will be reviewed by the Arizona State Director who may sustain, vacate or modify this Notice of Decision. A copy of the Record of Decision may be obtained from the person/address that follows.

FOR FURTHER INFORMATION CONTACT: Shela McFarlin, Project Manager, BLM, Arizona State Office, 222 N. Central, Phoenix, AZ 85004, or by telephone (602) 417-9568.

Dated: April 27, 2000.
Jesse Juen,
Field Manager, Tucson.

[FR Doc. 00-12088 Filed 5-12-00; 8:45 am]

BILLING CODE 4310-32-P